DEPARTMENT OF VETERANS AFFAIRS

Veterans and Community Oversight and Engagement Board, Notice of Meeting

The Department of Veterans Affairs (VA) gives notice under the Federal Advisory Committee Act (FACA) that the Veterans and Community Oversight and Engagement Board will meet virtually on May 21, 2020. The meeting sessions will begin and end as follows:

Date | Time
May 21, 2020 | 3:00 p.m. to 6:00 p.m. EST.

The meetings are open to the public. Members of the public can attend the meeting via teleconference (800) 767-1750 access code 21115#.

The Board was established by the West Los Angeles Leasing Act of 2016 on September 29, 2016. The purpose of the Board is to provide advice and make recommendations to the Secretary of Veterans Affairs on: identifying the goals of the community and Veteran partnership; improving services and outcomes for Veterans, members of the Armed Forces, and the families of such Veterans and members; and on the implementation of the Draft Master Plan approved by the Secretary on January 28, 2016, and on the creation and implementation of any successor master plans.

On May 21, the agenda will include opening remarks from the Committee Chair and the Chief Veterans Experience Officer. There will be a status update on VAGLAHS Homeless Programs response to COVID-19: CTRS Program, a presentation from the West Los Angeles Collective, on infrastructure assessment, and topics related to the Overall Community Plan; and an updated accounting of the Lease Revenue Fund. The Board's subcommittees on Outreach and Community Engagement with Services and Outcomes, and Master Plan with Services and Outcomes will report on activities since the last meeting, followed by an out brief to the full Board on any draft recommendations considered for forwarding to the SECVA.

Individuals wishing to share information with the Committee should contact Mr. Chihung Szeto (Alternate Designated Federal Official) at VEOFACA@va.gov to submit a 1-2 page summary of their comments for inclusion in the official meeting record.

Any member of the public seeking additional information should contact Mr. Eugene W. Skinner Jr. at (202) 631-7645 or at Eugene.Skinner@va.gov.

Dated: April 20, 2020.
Jelessa M. Burney,
Federal Advisory Committee Management Officer.

[FR Doc. 2020-08628 Filed 4-22-20; 8:45 am]

BILLING CODE P